DEPARTMENT OF TRANSPORTATION

Pipeline and Hazardous Materials Safety Administration

[Docket No. PHMSA-2006-26618]

Pipeline Safety: Request for Special Permit

AGENCY: Pipeline and Hazardous Materials Safety Administration (PHMSA); DOT.

ACTION: Notice.

SUMMARY: Pursuant to the Federal pipeline safety laws, PHMSA is publishing this notice to announce the availability of the draft environment assessment prepared in response to the request for a special permit we have received from El Paso Pipeline, seeking relief from compliance with certain requirements in the Federal pipeline safety regulations. This notice also seeks public comments on any safety or environmental impacts relative to this request. At the conclusion of the 30-day comment period, PHMSA will evaluate the comments and determine whether to grant or deny a special permit.

DATES: Submit any comments regarding the draft environmental assessment for this special permit request by October 3, 2011.

ADDRESSES: Comments should reference the docket number for the specific special permit request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: Docket Management System: U.S. Department of Transportation, Docket Operations, M-30, West Building Ground Floor, Room W12-140, 1200 New Jersey Avenue, SE., Washington, DC 20590 between 9 a.m. and 5 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Kay McIver by telephone at 202-366-0113, or e-mail at kay.mciver@dot.gov.

Technical: Steve Nanney by telephone at 713-628-7479, or e-mail at Steve.Nanney@dot.gov.

SUPPLEMENTARY INFORMATION: PHMSA has received a request for special permit from El Paso pipeline seeking relief from compliance with certain pipeline safety regulations. The request included the completion of an environmental assessment questionnaire, and submission of a technical analysis by the operator. The request and supporting documents were filed at http://www.Regulations.gov and assigned docket number Docket No. PHMSA-2006-26618. We invite interested persons to participate by reviewing the draft environment assessment at http://www.Regulations.gov, and by submitting written comments, data or other views. Please include any comments on potential environmental impacts that may result if this special permit is granted.

Before acting on the special permit request, PHMSA will evaluate all comments received on or before the comments closing date. Comments will be evaluated after this date if it is possible to do so without incurring additional expense or delay. PHMSA will consider each relevant comment we receive in making our decision to grant or deny a request.

PHMSA is publishing the draft environment assessment in response to this special permit request.

Docket number | Requester | Regulation(s) affected | Nature of special permit
PHMSA-2006-26618 | El Paso Pipeline Group for Tennessee Gas Pipeline | 49 CFR 192.611 | The special permit request from El Paso Pipeline seeks permission to extend a previously approved permit for the 30-inch Niagara Spur Loop Line 230B-200, near Lockport, New York by an additional 1,250 feet. The previously issued permit allowed Tennessee Gas Pipeline (TGP) to operate at or below the MAOP of 877 psig. We are publishing the draft environment assessment to seek public comments on any environmental impacts that granting an extension of this permit would present.

Authority: 49 U.S.C. 60118 (c)(1) and 49 CFR 1.53.

Issued in Washington, DC, on August 23, 2011.
Alan K. Mayberry,
Deputy Associate Administrator for Pipeline Safety Field Operations.

[FR Doc. 2011-22342 Filed 8-31-11; 8:45 am]

BILLING CODE 4910-60-P